DEPARTMENT OF COMMERCE

National Oceanic and Atmospheric Administration, National Marine Fisheries Service

DEPARTMENT OF THE INTERIOR

Fish and Wildlife Service

RIN 0648-XE42

Notice of Public Scoping and Intent to Prepare a Joint Environmental Impact Statement for Fruit Growers Supply Company's Multispecies Habitat Conservation Plan, Siskiyou County, California

AGENCIES: National Marine Fisheries Service, National Oceanic and Atmospheric Administration, Commerce; and Fish and Wildlife Service, Interior.

ACTION: Notice of Intent.

SUMMARY: The National Marine Fisheries Service (NMFS) and Fish and Wildlife Service (FWS) (together the Services) intend to gather information necessary for the preparation of a joint Environmental Impact Statement (EIS). The EIS will consider applications from the Fruit Growers Supply Company (FGS) for Incidental Take Permits (ITPs) for take of endangered and threatened species in accordance with the Endangered Species Act of 1973, as amended (ESA). FGS's applications will include a multi-species Habitat Conservation Plan (HCP), as required under the ESA. The HCP will address forest management and timber operations on FGS lands in Siskiyou County, California. The proposed 50 year HCP will encompass approximately 154,000 acres of lands owned by FGS on and after the granting date of the ITPs. The HCP will outline conservation programs for various aquatic species under the jurisdiction of NMFS and terrestrial species under the jurisdiction of FWS. For purposes of the issuance of the ITPs, NMFS and FWS are co-lead agencies under National Environmental Policy Act.

We provide this notice to describe the proposed action and possible alternatives; advise other Federal and State agencies, affected Tribes, and the public of our intent to prepare an EIS; announce the initiation of a public scoping period; and obtain suggestions and information on the scope of issues and possible alternatives to be included in the EIS.

DATES: Submit written comments on or before April 7, 2008. The Services will conduct two public scoping meetings where oral and written comments can be submitted. These meetings are scheduled for Tuesday, March 11, 2008, in Yreka, CA, from 6 p.m. to 8 p.m., and Wednesday, March 12, 2008, in Happy Camp, CA, from 6 p.m. to 8 p.m. Should winter conditions prevent conducting the Yreka meeting, it will occur one week later on March 18, 2008, in Yreka from 6 p.m. to 8 p.m. Should winter conditions prevent conducting the Happy Camp meeting, it will occur one week later on March 19, 2008, from 6 p.m. to 8 p.m.

ADDRESSES: Comments regarding the scope of the EIS and requests for additional information should be addressed to Lisa Roberts, NMFS 1655 Heindon Road, Arcata, CA 95521. Written comments may also be sent by facsimile to (707) 825-4840 or by e-mail to FGS-Scoping.SWR@noaa.gov. Public scoping meetings will be held at the Best Western Miners Inn Convention Center, 122 East Minor Street, Yreka, CA 96097 and the Karuk Tribe Housing Authority-Headway Building, 64101 Second Avenue, Happy Camp, CA 96039. Comments received will be available for public inspection, by appointment, during normal business hours (Monday through Friday; 8 a.m. to 4:30 p.m.) at 1655 Heindon Road, Arcata, CA 95521. All comments received, including names and addresses, will become part of the official administrative record and may be available to the public.

FOR FURTHER INFORMATION CONTACT: Lisa Roberts, NMFS, 1655 Heindon Road, Arcata, CA 95521, (707) 825-5178.

SUPPLEMENTARY INFORMATION:

Reasonable Accommodation

Persons needing reasonable accommodations in order to attend and participate in the public meeting should contact Lisa Roberts, NMFS, at (707) 825-5178, as soon as possible. In order to allow sufficient time to process requests, please call no later than one week before the public meeting. Information regarding this proposed action is available in alternative formats upon request.

Background Information

Section 9 of the ESA prohibits the ''take'' of wildlife species listed as endangered or threatened by either the FWS or NMFS (16 USC 1538). The ESA defines the term ''take'' as: harass, harm, pursue, hunt, shoot, wound, kill, trap, capture, or collect listed species, or attempt to engage in such conduct. Pursuant to section 10(a)(1)(B) of the ESA, FWS and NMFS may issue ITPs to take listed species if such taking is incidental to, and not the purpose of, otherwise lawful activities.

Take of listed plant species is not prohibited under the Act, and cannot be authorized under a section 10 permit. However, FGS proposes to include Yreka phlox (Phlox hirsute) in the HCP to extend the plan's conservation benefits to this species. All species included on an ITP would receive assurances under the Services' “No Surprises” regulations found in 50 CFR 17.22(b)(5), 17.32(b)(5), and 222.307(g).

To receive an ITP under the ESA, an applicant must prepare an HCP that specifies the following: (1) the impact of the taking, (2) steps the applicant will take to minimize and mitigate the impact; (3) funding available to implement the steps; (4) what alternative actions to the taking the applicant considered and the reasons why they were not taken; and (5) any other measures NMFS or FWS may require as being necessary or appropriate for the purpose of the plan (16 USC 1539). To issue a permit, NMFS and FWS must find that: (1) the taking will be incidental, (2) the applicant will minimize and mitigate impacts of the take to the maximum extent possible; (3) the applicant will ensure adequate funding for the HCP; (4) the taking will not appreciably reduce the likelihood of the survival and recovery of the species; and the applicant has met other measures required by FWS and NMFS. Regulations governing issuance of FWS permits for endangered and threatened species are at 50 CFR 17.22 and 17.32, and at 50 CFR 222.301 through 307 for NMFS-issued permits.

FGS is developing a multi-species HCP in anticipation of applying for ITPs under the ESA. The HCP will apply to approximately 154,000 acres of commercial timberland owned by FGS in Siskiyou County, California. The ownership consists of three management units as defined by FGS: Klamath River, Scott Valley, and Grass Lake, covering about 65,000, 39,000, and 50,000 acres, respectively. FGS's Klamath River and Scott Valley management units are located west of Interstate 5 and are adjacent to and intermixed with Klamath National Forest (KNF) lands. FGS's Grass Lake management unit (also adjacent to the KNF) lies east of Interstate 5 and predominantly north of State Highway 97. For the purposes of this HCP, all land owned by FGS in their Klamath River, Scott Valley, and Grass Lake Management Units as described above are referred to as the HCP Area.

FGS intends to request coverage from FWS for northern spotted owl (Strix occidentalis caurina) and Yreka phlox (Phlox hirsute). Separately, FGS intends to request coverage from NMFS for the Southern Oregon/Northern California Coasts (SONCC) coho salmon (Oncorhynchus kisutch) Evolutionally Significant Unit (ESU). FGS also intends to request coverage under the ITP for the unlisted California Coastal Chinook salmon (O. tshawytscha) ESU and the Klamath Mountains Province steelhead (O. mykiss) ESU. Should these unlisted covered species become listed under the ESA during the term of the permit, take authorization for those species would become effective upon listing.

Activities that FGS may propose to cover under the ITPs include mechanized timber harvest; forest product transportation; road and landing construction, use, maintenance, and abandonment; site preparation; tree planting; certain types of vegetation management; silvicultural thinning and other silvicultural activities; fire suppression; rock quarry and borrow pit operations; aquatic habitat restoration and other forest management activities, miscellaneous and minor forest product collecting. The HCP is also expected to cover certain monitoring activities and scientific work in the HCP area.

FWS and NMFS expect FGS's proposed HCP to address each of the activities, species, and area described above, as required by the ESA. The goal of this HCP will be to: (1) protect and improve habitats required by species covered by the HCP and (2) establish appropriate guidelines for continuing timber harvests and other forest management activities.

During the preparation of the EIS, FWS and NMFS will consider a range of alternatives to the proposed HCP, including a No Action alternative and other project alternatives recommended during this scoping process. Alternatives may include HCPs with modified lists of covered species, land coverage areas, and permit terms. Different strategies for minimizing and mitigating the impacts of incidental take may also be considered. We invite comments and suggestions from all interested parties to ensure that a reasonable range of alternatives and issues related to them are addressed and that all significant issues are identified.

Environmental review of the HCP will be conducted in accordance with the requirements of the National Environmental Policy Act, as amended (42 U.S.C. 4321 et seq.), the Council on Environmental Quality Regulations for Implementing the Procedural Provisions of the National Environmental Policy Act (40 CFR parts 1500-1508), other applicable laws such as the National Historic Preservation Act, and FWS and NMFS procedures for compliance with those regulations.

The California Department of Fish and Game (CDFG) intends to use this EIS as a California Environmental Quality Act (CEQA) Environmental Impact Report (EIR) equivalent document in its consideration and approval of a FGS master streambed alteration agreement. FGS will incorporate best management practices into the HCP that have been developed in cooperation with, and approved by, CDFG.

Request for Comments

This notice is being furnished in accordance with 40 CFR 1501.7 and 1508.22 to obtain suggestions and information from other agencies and the public on the scope of issues and alternatives that will be addressed in the EIS. The primary purpose of the scoping process is to identify important issues raised by the public related to the issuance of ITPs for the HCP. Interested persons are encouraged to attend the public scoping meeting and to identify and discuss issues and alternatives that should be addressed in the joint EIS. We invite written comments from interested parties to ensure that the full range of issues related to the development of the HCP and issuance of the ITPs are identified.

To ensure all comments are fully considered, comments must be received no later than 45 days after the date of this notice. Comments provided during the scoping process, other than those received orally during the public meetings, will only be accepted in written form. All comments received, including names and addresses, will become part of the official administrative record and may be made available to the public. To facilitate comments are reviewed by the appropriate co-lead agency, NFMS and FWS encourage the public to specify which species their comments are addressing. Comments that do not identify a specific species will be reviewed by the co-lead agencies, and assigned for consideration by FWS, NFMS, or both.

Before including your address, phone number, e-mail address, or other personal identifying information in your comment, you should be aware that your entire comment including your personal identifying information may be made publicly available at any time. While you may ask us in your comment to withhold your personal identifying information from public review, we cannot guarantee that we will be able to do so.

Dated: February 19, 2008.
Angela Somma,
Chief, Endangered Species Division, Office of Protected Resources, National Marine Fisheries Service

Dated: February 19, 2008.
Ken McDermond,
Deputy Regional Director, California and Nevada Region, Fish and Wildlife Service.

[FR Doc. E8-3365 Filed 2-21-08; 8:45 am]

BILLING CODES 3510-22-S, 4310-55-S